DEPARTMENT OF COMMERCE

National Oceanic and Atmospheric Administration

Marine Protected Areas Federal Advisory Committee; Public Meeting

AGENCY: Office of National Marine Sanctuaries (ONMS), National Ocean Service (NOS), National Oceanic and Atmospheric Administration (NOAA), Department of Commerce (DOC).

ACTION: Notice of open meeting.

SUMMARY: Notice is hereby given of a meeting of the Marine Protected Areas Federal Advisory Committee (Committee) in Tacoma, Washington.

DATES: The meeting will be held Tuesday, June 2, 2015, from 9 a.m. to 5 p.m.; Wednesday, June 3, 2015, from 8:30 a.m. to 5 p.m.; and Thursday, June 4, 2015, from 8 a.m. to 1 p.m. These times and the agenda topics described below are subject to change. Refer to the Web page listed below for the most up-to-date meeting agenda.

ADDRESSES: The meeting will be held at the Hotel Murano, 1320 Broadway Plaza, Tacoma, WA 98402.

FOR FURTHER INFORMATION CONTACT: Lauren Wenzel, Acting Designated Federal Officer, MPA FAC, National Marine Protected Areas Center, 1305 East West Highway, Silver Spring, Maryland 20910. (Phone: 301-713-7265, Fax: 301-713-3110); email: lauren.wenzel@noaa.gov; or visit the National MPA Center Web site at http://marineprotectedareas.noaa.gov/).

SUPPLEMENTARY INFORMATION: The Committee, composed of external, knowledgeable representatives of stakeholder groups, was established by the Department of Commerce (DOC) to provide advice to the Secretaries of Commerce and the Interior on implementation of Section 4 of Executive Order 13158, on marine protected areas (MPAs). The meeting is open to the public, and public comment will be accepted from 4:30 p.m. to 5 p.m. on Tuesday, June 2, 2015. In general, each individual or group will be limited to a total time of five (5) minutes. If members of the public wish to submit written statements, they should be submitted to the Designated Federal Official by May 29, 2015.

Matters to be Considered: The focus of the Committee's meeting will be the development of workplans by the Subcommittees (MPA Connectivity and External Financing for MPAs) to address the Committee's charge and begin discussion of issues; provide an opportunity for updates and input on Subcommittee and Working Group workplans from all Committee members; and gain a perspective on tribal marine resource management, and on MPA management issues in the Pacific Northwest. The agenda is subject to change. The latest version will be posted at http://marineprotectedareas.noaa.gov/.

Dated: April 9, 2015.
Daniel J. Basta,
Director, Office of National Marine Sanctuaries, National Ocean Service, National Oceanic and Atmospheric Administration.

[FR Doc. 2015-09313 Filed 4-21-15; 8:45 am]

BILLING CODE 3510-NK-P